DEPARTMENT OF LABOR

Employment and Training Administration

[TA-W-74,880]

Lafarge North America, Inc., a Subsidiary of Lafarge, Including On-Site Leased Workers From Industrial Services, Incorporated and Summit Building Maintenance, Seattle, WA; Amended Certification Regarding Eligibility To Apply for Worker Adjustment Assistance

In accordance with Section 223 of the Trade Act of 1974, as amended (“Act”), 19 U.S.C. 2273, the Department of Labor issued a Certification of Eligibility to Apply for Worker Adjustment Assistance on November 30, 2010, applicable to workers of Lafarge North America, Inc., a subsidiary of Lafarge, Seattle, Washington. The workers produce cement and cementitious products. The notice was published in the Federal Register on December 13, 2010 (75 FR 77668).

At the request of the State agency, the Department reviewed the certification for workers of the subject firm. The company reports that workers leased from Industrial Services, Incorporated and Summit Building Maintenance were employed on-site at the Seattle, Washington location of Lafarge North America, Inc., a subsidiary of Lafarge. The Department has determined that these workers were sufficiently under the control of Lafarge North America, Inc., a subsidiary of Lafarge to be considered leased workers.

Based on these findings, the Department is amending this certification to include workers leased from Industrial Services, Incorporated and Summit Building Maintenance working on-site at the Seattle, Washington location of Lafarge North America, Inc., a subsidiary of Lafarge.

The amended notice applicable to TA-W-74,880 is hereby issued as follows:

All workers of Lafarge North America, Inc., a subsidiary of Lafarge, including on-site leased workers from Industrial Services, Incorporated and Summit Building Maintenance, Seattle, Washington, who became totally or partially separated from employment on or after November 10, 2009, through November 30, 2012, and all workers in the group threatened with total or partial separation from employment on the date of certification through two years from the date of certification, are eligible to apply for adjustment assistance under Chapter 2 of Title II of the Trade Act of 1974, as amended.

Signed in Washington, DC, this 15th day of March, 2011.
Michael W. Jaffe,
Certifying Officer, Office of Trade Adjustment Assistance.

[FR Doc. 2011-6801 Filed 3-22-11; 8:45 am]

BILLING CODE 4510-FN-P